DEPARTMENT OF THE INTERIOR

Bureau of Land Management

Privacy Act of 1974, as Amended; Amendment of an Existing System of Records

AGENCY: Bureau of Land Management, Interior.

ACTION: Proposed amendment of an existing system of records.

SUMMARY: Under the Privacy Act of 1974, as amended (5 U.S.C. 552a), the Office of the Secretary is issuing public notice of our intent to amend the existing Privacy Act system of records entitled, LLM-2 “Range Management System.” The system notice is published in its entirety below. Editorial changes have been made to “Categories of individuals covered by the system” and “Categories of Records in the System” to clarify who is covered and the type of information in the system.

Under “Routine Uses,” there are changes in the provisions for “Disclosures outside the Department of the Interior.”

Changes are also made to the “Record access procedures” and “Retention and disposal” under “Policies and practices for storing, retrieving, accessing, retaining, and disposing of records in the system.”

The Department of the Interior is issuing public notice of its intent to amend portions of an existing Privacy Act system of records subject to the Privacy Act of 1974 (5 U.S.C. 552a). This action is necessary to meet the requirements of the Privacy Act to publish in the Federal Register notice of amendment of an existing records system maintained by the agency (5 U.S.C. 552a(e)(4)).

DATES: 5 U.S.C. 552a(e)(11) requires that the public be provided a 30-day period in which to comment on the agency's intended use of the information in the system of records. The Office of Management and Budget, in its Circular A-130, requires an additional 10-day period (for a total of 40 days) in which to make these comments. Any persons interested in commenting on this proposed amendment may do so by submitting comments in writing to the Privacy Act Officer, Bureau of Land Management, U.S. Department of the Interior, 1849 C Street, NW., Washington, DC 20240. Comments received within 40 days of publication in the Federal Register will be considered. The system will be effective as proposed at the end of the comment period unless comments are received that would require a contrary determination. The Department will publish a revised notice if changes are made based upon a review of comments received.

FOR FURTHER INFORMATION CONTACT: Robert Roudabush, Acting Division Chief, Rangeland Resources Division, 1849 C St., NW., Room 201 LS, Washington, DC 20240, phone number 202-785-6569, or e-mail Rob_Roudabush@blm.gov

SUPPLEMENTARY INFORMATION: The intent of amending this system notice is to align the LLM-2 system more closely with the mission of the BLM Rangeland Management Program, to address administrative changes and the current needs of the bureau, and to correct minor typographical errors. The following changes are being proposed to LLM-2.

The BLM is updating this system notice to delete the overly broad language of a Routine Use disclosure to certain members of the general public. BLM is further rewriting Routine Use (2) to assist Federal, State and local agencies to better manage their activities related to grazing programs.

Under “Categories of individuals covered by the system,” “Individuals owning grazing leases and permits issued by BLM” is changed to “Individuals to whom BLM issues grazing leases and permits.”

The “Categories of Records in the System” has been rewritten to clarify the types of information in the system and to make explicit that both paper and electronic records are included.

Routine Uses have been renumbered to reflect the deletion of one Routine Use.

A previous Routine Use that stated that the records would be released “to a member of the general public in response to a specific request for pertinent information,” did not provide a discernable standard for determining the scope of the Routine Use.

Routine Use (2) has been revised to provide for release of information from the system to Federal, State and local agencies to enable them to adequately manage their activities relating to the BLM's grazing program. The changes to this Routine Use will assist in the efficient administration of Federal, State and local activities related to the BLM grazing program and is therefore compatible with the purpose for which we collected the information.

Under “Retention and disposal,” we have updated the BLM manual section reference to the current manual section.

Under “Records Access Procedures,” we have deleted the phrase “as specifically as possible.” The Access Procedure will now read “Describe the records sought.”

Dated: February 22, 2007.
Robert Roudabush,
Acting Assistant Director, Renewable Resources and Planning, Bureau of Land Management.

INTERIOR/LLM-2

System name:

Range Management System—Interior, LLM-2.

System location:

U.S. Department of the Interior, Bureau of Land Management, Denver Federal Center, Bldg. 50, Denver, Colorado 80225.

Categories of individuals covered by the system:

Individuals to whom BLM issues grazing permits or leases.

Categories of records in the system:

The records, paper and electronic, contain the lessee's or permittee's name, address, the Bureau's assigned case file number, grazing allotment descriptions, grazing applications, grazing preference summary and history, copies of the grazing permit or lease, grazing fee billing statements, grazing exchange-of-use agreement, evidence of ownership or control of base property, notice of lienholder interest in base property, corporate or partnership documentation, affiliate documentation, notice of authorized representative, livestock control agreements, copies of brand registration, closed unauthorized use case records, Cooperative Range Improvement Agreements, Range Improvement Permits, Assignment of Range Improvements, grazing decisions, and correspondence to, or received from, the permittee or lessee.

Authority for maintenance of the system:

43 U.S.C. 315, et seq.

Routine uses of records maintained in the system, including categories of users and the purposes of such uses:

The primary uses of the records are (a) to identify the permittees and lessees authorized to graze lands administered by the Bureau of Land Management, (b) to print statements of grazing preference, grazing authorizations, billings for grazing fees due, and other reports, (c) to maintain the information required to administer livestock grazing on public rangelands in accordance with applicable laws and regulations, and (d) to provide information concerning the grazing permittees and lessees for administrative use.

Disclosures outside the Department of the Interior may be made: (1) To the Department of Justice, or to a court, adjudicative or other administrative body, or to a party in litigation before a court or adjudicative or administrative body, when (a) the Department or any component of the Department, any Departmental employee acting in his or her official capacity, or any Departmental employee acting in his or her individual capacity where the Department of Justice has agreed to represent the employee is a party in the suit and (b) we deem the disclosure to be relevant and necessary to the proceeding, and compatible with the purpose for which we compiled the information; (2) to Federal, State, or local agencies to manage their activities related to BLM's grazing program; and (3) to a congressional office from the record of an individual in response to a written inquiry the individual has made to the congressional office.

Disclosure to consumer reporting agencies:

Disclosures pursuant to 5 U.S.C. 552a(b)(12): Disclosures may be made to consumer reporting agencies as defined in the Fair Credit Reporting Act (15 U.S.C. 1681a(f)) or the Federal Claims Collection Act of 1966 (31 U.S.C. 3701(a)(3)).

Policies and practices for storing, retrieving, accessing, retaining, and disposing of records in the system:

Storage:

Computer magnetic tape and/or manual index. Paper case records are maintained in locking filing cabinets at BLM field offices.

Retrievability:

Indexed by name of permittee or lessee and grazing authorization number.

Safeguards:

Maintained with safeguards meeting the requirements of 43 CFR 2.51 for manual and automated records. Access to records in the system is limited to authorized personnel whose official duties require such access. Paper records are maintained in locked file cabinets and/or in secured rooms. Electronic records conform to Office of Management and Budget and Departmental guidelines reflecting the implementation of the Federal Information Security Management Act. The electronic data will be protected through user identification, passwords, database permissions, and software controls. Such security measures will establish access levels for different types of users. A Privacy Impact Assessment was completed on the system to ensure that privacy protection measures were in place.

Retention and disposal:

BLM Manual(s) 1220, Records and Information Management, Appendix II, GRS/BLM Combined Records Schedule, Schedule 20, Item 42. Destroyed when superseded or no longer needed for administrative purposes.

System manager(s) and address:

Chief, Division of Rangeland Management, U.S. Department of the Interior, Bureau of Land Management, (WO-220), 1849 C St., NW., Washington, DC 20240.

Notification procedure:

To determine whether records are maintained on you in this system, write to the System Manager. See 43 CFR 2.60.

Record access procedures:

To see your records, write to the System Manager. Describe the records sought. If copies are desired, indicate the maximum you are willing to pay. See 43 CFR 2.63.

Contesting record procedures:

To request corrections or the removal of material from your files, write the System Manager. See 43 CFR 2.71.

Record source categories:

Grazing Permittees or Lessees

Exemptions claimed for the system:

None.

[FR Doc. E7-3477 Filed 2-27-07; 8:45 am]

BILLING CODE 4310-10-P